COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add product(s) and/or service(s) to the Procurement List that will be furnished by nonprofit agencies employing persons who are blind or have other severe disabilities, and deletes product(s) and/or service(s) previously furnished by such agencies.

DATES: Comments must be received on or before October 8, 2017.

ADDRESSES: Committee for Purchase From People Who Are Blind or Severely Disabled, 1401 S. Clark Street, Suite 715, Arlington, Virginia 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN(s)—Product Name(s):

8920-01-E62-5585—Rice, Brown, Parboiled, Long Grain, CS/Four (4) Five (5) Pound Bags

8920-01-E62-5586—Rice, Brown, Parboiled, Long Grain, CS/Two (2) Ten (10) Pound Bags

Mandatory for: 100% of the requirement of the Department of Defense

Mandatory Source(s) of Supply: VisionCorps, Lancaster, PA

Contracting Activity: Defense Logistics Agency Troop Support

Distribution: C-List

NSN(s)—Product Name(s):

5940-01-089-7066—Adapter, Battery Terminal, Negative Post, E

5940-01-520-6775—Adapter, Battery Terminal, Positive Post, E

Mandatory Source(s) of Supply: Eastern Carolina Vocational Center, Inc., Greenville, NC

Mandatory for: 100% of the requirement of the Department of Defense

Contracting Activity: Defense Logistics Agency Land and Maritime

Distribution: C-List

Deletion

The following products and services are proposed for deletion from the Procurement List

Product

NSN(s)—Product Name(s): 2910-00-740-9419—Strap, Fuel Tan

Mandatory Source(s) of Supply: Employment Source, Inc., Fayetteville, NC

Contracting Activity: Defense Logistics Agency Land and Maritime

NSN(s)—Product Name(s):

8410-01-414-6979—Shirt, Tuck-in, Army, Women's, Short Sleeved, Green, 4 Regula

8410-01-414-6980—Shirt, Tuck-in, Army, Women's, Short Sleeved, Green, 6 Regula

8410-01-414-6981—Shirt, Tuck-in, Army, Women's, Short Sleeved, Green, 8 Regula

8410-01-414-7023—Shirt, Tuck-in, Army, Women's, Short Sleeved, Green, 10 Regula

8410-01-414-7105—Shirt, Tuck-in, Army, Women's, Short Sleeved, Green, 12 Regula

8410-01-414-7113—Shirt, Tuck-in, Army, Women's, Short Sleeved, Green, 14 Regula

8410-01-414-7116—Shirt, Tuck-in, Army, Women's, Short Sleeved, Green, 16 Regula

8410-01-414-7118—Shirt, Tuck-in, Army, Women's, Short Sleeved, Green, 18 Regula

8410-01-414-7120—Shirt, Tuck-in, Army, Women's, Short Sleeved, Green, 20 Regula

8410-01-414-7186—Shirt, Tuck-in, Army, Women's, Short Sleeved, Green, 22 Regula

8410-01-414-7232—Shirt, Tuck-in, Army, Women's, Short Sleeved, Green, 24 Regula

8410-01-414-7233—Shirt, Tuck-in, Army, Women's, Short Sleeved, Green, 26 Regula

Mandatory Source(s) of Supply: Middle Georgia Diversified Industries, Inc., Dublin, GA

Contracting Activity: Defense Logistics Agency Troop Support

NSN(s)—Product Name(s): 1670-00-805-3522—Strap Set, Webbin

Mandatory Source(s) of Supply: Huntsville Rehabilitation Foundation, Huntsville, AL

Contracting Activity: Defense Logistics Agency Aviation

NSN(s)—Product Name(s):

8465-00-001-6487—Belt, Individual Equipment, Olive Drab, Larg

8465-00-001-6488—Belt, Individual Equipment, LC-1, Olive Drab, Mediu

8465-01-120-0674—Belt, Individual Equipment, USN/USA, LC-2, Olive Drab, Mediu

8465-01-120-0675—Belt, Individual Equipment, Olive Drab, Larg

Mandatory Source(s) of Supply: Mississippi Industries for the Blind, Jackson, MS

Contracting Activity: Defense Logistics Agency Troop Support

Service

Service Type: Grounds Maintenance Servic

Mandatory for: Pennington Memorial U.S. Army Reserve Center: 2164 Harding Highway East, Marion, OH

Mandatory Source(s) of Supply: MARCA Industries, Inc., Marion, OH

Contracting Activity: Dept of the Army, W6QM MICC Ft McCoy (RC)

Service Type: Mail and Messenger Servic

Mandatory for: Headquarters, Naval Facilities Engineering Command (NAVFACENGCOM), Washington, DC

Mandatory Source(s) of Supply: ServiceSource, Inc., Oakton, VA

Contracting Activity: Dept of the Navy, U.S. Fleet Forces Command

Service Type: Mailroom Operation Service

Mandatory for: Food and Drug Administration, 5100 Paint Branch Parkway, College Park, MD

Mandatory Source(s) of Supply: Linden Resources, Inc., Arlington, VA

Contracting Activity: Dept of Health And Human Services/Food and Drug Administration

Service Type: Mess Attendant Servic

Mandatory for: Willow Grove Naval Air Station Joint Reserve Base: Liberty Dining Hall, Horsham, PA

Mandatory Source(s) of Supply: Occupational Training Center of Burlington County, Burlington, NJ

Contracting Activity: Dept of tThe Navy, U.S. Fleet Forces Command

Amy B. Jensen,
Director, Business Operations.

[FR Doc. 2017-19082 Filed 9-7-17; 8:45 am]

BILLING CODE 6353-01-P